DEPARTMENT OF DEFENSE

Office of the Secretary

[Docket ID DOD-2018-HA-0067]

Proposed Collection; Comment Request

AGENCY: The Office of the Assistant Secretary of Defense for Health Affairs, DoD.

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 20, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to ATTN: Dr. Richard Bannick, 7700 Arlington Blvd., Suite 5101, Falls Church, VA 22042-5101, or call 703-681-3636.

SUPPLEMENTARY INFORMATION:

Title; Associated Form; and OMB Number: TRICARE Select Survey of Civilian Providers; OMB Control Number 0720-0031.

Needs and Uses: As mandated by Congress, the information collection requirement is necessary to determine how many providers are aware of the TRICARE health benefits program, and specifically accept new TRICARE Select patients in each market area. The original requirement is outlined in Section 711 Fiscal Year (FY) 2015 National Defense Authorization Act (NDAA) (Pub. L. 110- 181) and was reaffirmed in Section 721 FY12 NDAA (Pub. L. 112-81). Section 712 of FY15 NDAA extended the requirement to conduct the survey from 2017 through 2020.

Surveys of civilian physician and non-physician behavioral health care providers will be conducted in a number of locations in the United States each year. Respondents include civilian physicians (M.D.s & D.O.s) and non-physician behavioral health providers (clinical psychologists, clinical social workers and other TRICARE authorized behavioral health providers). The locations surveyed will include areas where the TRICARE Prime benefit is offered (known as TRICARE PRIME Service Areas) and geographic areas where TRICARE Prime is not offered. Respondents will be contacted by mail with a telephone follow-up to complete the survey.

Affected Public: Individuals or Households.

Annual Burden Hours: 1,667.

Number of Respondents: 20,000.

Responses per Respondent: 1.

Annual Responses: 20,000.

Average Burden per Response: 5 minutes.

Frequency: Annually.

Under the authority of the Office of the Assistant Secretary of Defense (Health Affairs), (OASD (HA)), Defense Health Agency (DHA) is proposing an extension with changes of an existing information collection of civilian providers to evaluate DoD's TRICARE Select health care option. The evaluation methodology remains unchanged to include collecting and analyzing survey-based data that are necessary to meet the requirements of Congress.

Section 701 of the FY17 NDAA established TRICARE Select as the replacement for TRICARE Standard as of January 1, 2018. TRICARE Select brings together the features of TRICARE Standard and TRICARE Extra in a single plan. Select enrollees may obtain care from any TRICARE authorized provider without a referral or authorization.

The proposed changes include:

Change title of survey from TRICARE Standard Survey of Civilian Providers to TRICARE Select Survey of Civilian Providers.

Change the wording in questions from “Standard” to “Select” to insure accuracy and consistency in terms when referring to a TRICARE health plan option.

Dated: September 18, 2018.
Shelly E. Finke,
Alternate OSD Federal Register Liaison Officer, Department of Defense.

[FR Doc. 2018-20575 Filed 9-20-18; 8:45 am]

BILLING CODE 5001-06-P